DEPARTMENT OF HOUSING AND URBAN DEVELOPMENT

[Docket No. FR-7050-N-17]

Proposed Information Collection: Unsheltered and Rural Homelessness Special NOFO Competition, OMB Control No.: 2506-0218

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: May 16, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Brett Esders, Senior SNAPS Specialist, Office of Community Planning and Development, Department of Housing and Urban Development, 451 Seventh Street SW, Washington, DC 20410; Email: Brett.D.Esders@hud.gov.

SUPPLEMENTARY INFORMATION: This notice informs the public that HUD has submitted to OMB a request for approval of the information collection described in Section A.

A. Overview of Information Collection

Title of Information Collection: Unsheltered and Rural Homelessness Special NOFO Competition.

OMB Approval Number: 2506-0218.

Type of Request: New.

Form Number: SF-424, HUD-2991, HUD-2993, HUD-2880, SF-LLL, HUD-50070 HUD 40090-4.

Description of the need for the information and proposed use: Section 231 of the Department of Housing and Urban Development Appropriations Act, 2020 (42 U.S.C. 11364a; Pub. L. 116-94, approved December 20, 2019) provided HUD with authority to use recaptured CoC Program funds for four purposes, two of which area: (1) Grants under the Continuum of Care program under Subtitle C of title IV of the McKinney-Vento Homeless Assistance Act (42 U.S.C. 11381 et seq.); and (2) Not less than 10 percent of the amounts shall be used only for grants in rural areas under the Continuum of Care program, to include activities eligible under the Rural Housing Stability Assistance program under section 491 of the McKinney-Vento Homeless Assistance Act (42 U.S.C. 11408) that are not otherwise eligible under the Continuum of Care program. HUD is providing funding for Continuums of Care (CoCs) using these authorities to help them address unsheltered homelessness and, in rural areas, to implement the unique strategies often needed to reduce homelessness and to add resources and infrastructure that is lacking. Without asking for this information, HUD will be unable to ensure the communities awarded have the capacity to implement projects that support an overall strategy, based in data and evidence, to reduce unsheltered homelessness and amongst those individuals who are most vulnerable.

Information collection | Number of respondents | Frequency of response | Responses per annum | Burden hour per response | Annual burden hours | Hourly cost per response | Annual cost
CoC Applications:
CoC Application | 250 | 1 | 250 | 15 | 3,750 | $41.37 | $155,137.50
CoC Priority Listing and Reallocation Forms | 250 | 1 | 250 | 5 | 1,250 | 41.37 | 51,712.50
HUD-2991 | 250 | 1 | 250 | 3 | 750 | 41.37 | 31,027.50
Subtotal CoC Application | 250 | 1 | 250 | 23 | 5,750 | 41.37 | 237,877.50
Project Applications:
New Project | 1,500 | 1 | 1,500 | 1.50 | 2,250 | 41.37 | 93,082.50
CoC Planning | 250 | 1 | 250 | 1.50 | 375 | 41.37 | 15,513.75
UFA Costs | 12 | 1 | 12 | 1 | 12 | 41.37 | 496.44
SF-424 | 1,500 | 1 | 1,500 | 0.05 | 75 | 41.37 | 3,102.75
HUD-2880 | 1,500 | 1 | 1,500 | 0.05 | 75 | 41.37 | 3,102.75
HUD-50070 | 1,500 | 1 | 1,500 | 0.05 | 75 | 41.37 | 3,102.75
SF LLL | 1,500 | 1 | 1,500 | 0.05 | 75 | 41.37 | 3,102.75
Certification of Lobbying | 1,500 | 1 | 1,500 | 0.05 | 75 | 41.37 | 3,102.75
HUD-40090-4 | 1,500 | 1 | 1,500 | 0.05 | 75 | 41.37 | 3,102.75
Subtotal Project Applications Submissions | 1,762 | 1 | 1,762 | 4.3 | 3,087 | 41.37 | 127,709.19
CoC and Project Applications Overall Total:
Total for CoC and Project Applications | 2,012 | 1 | 2,012 | 25.3 | 8,337 | 41.37 | 365,586.69

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Anna P. Guido,
Department Reports Management Officer, Office of the Chief Information Officer.

[FR Doc. 2022-09933 Filed 5-6-22; 8:45 am]

BILLING CODE 4210-67-P